FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than September 13, 2013.

A. Federal Reserve Bank of Richmond (Adam M. Drimer, Assistant Vice President) 701 East Byrd Street, Richmond, Virginia 23261-4528:

1. Harold Lynn Keene and Charlotte Keen, individually and as trustees, H.L. Keene, L.L.C., Arbutus Keene, The Harold Lynn Keene Trust, The Charlotte Keene Trust, and Elizabeth Keene, all of Lebanon, Virginia, as group acting in concert, to retain control of New Peoples Bankshares, Inc., Honaker, Virginia, and thereby retain shares of New Peoples Bank, Honaker, Virginia.

Board of Governors of the Federal Reserve System, August 27, 2013.
Michael J. Lewandowski,
Assistant Secretary of the Board.

[FR Doc. 2013-21283 Filed 8-30-13; 8:45 am]

BILLING CODE 6210-01-P